DEPARTMENT OF DEFENSE

Department of the Navy

[Docket ID: USN-2013-0036]

Privacy Act of 1974; System of Records

AGENCY: Department of the Navy, DoD.

ACTION: Notice to alter a System of Records.

SUMMARY: The Department of the Navy proposes to alter a system of records in its inventory of record systems subject to the Privacy Act of 1974, as amended.

DATES: This proposed action will be effective on November 4, 2013 unless comments are received which result in a contrary determination. Comments will be accepted on or before November 4, 2013.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/navy/index.html. The proposed system report, as required by 5 U.S.C. 552a(r) of the Privacy Act of 1974, as amended, was submitted on April 15, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 30, 2013.
Aaron Siegel,
Alternate OSD Federal Register Liaison Officer, Department of Defense.

N01306-1

System Name:

Career Management/Interactive Detailing System (CMS/ID) Records (April 23, 2010, 75 FR 21260).

Changes:

* * * * *

System name:

Delete entry and replace with “Career Management System—Interactive Detailing (CMS-ID).”

System location:

Delete entry and replace with “SPAWAR Systems Center Atlantic (SSC LANT), 2251 Lakeshore Drive, New Orleans, LA 70122-0001. The system shifts operations (relocates) to SPAWAR Systems Center Pacific (SSC PAC), 53560 Hull Street, San Diego, California 92152-5001 during Contingency of Operations Planning (COOP).”

Categories of individuals covered by the system:

Delete entry and replace with “All Active and Reserve Navy personnel. This includes: Active Duty, Selected Reserve (SELRES), and Full Time Support (FTS) enlisted and officer personnel.”

Categories of records in the system:

Delete entry and replace with “Personnel data in automated form displaying basic qualifications to include name, Social Security Number (SSN), Department of Defense Identification Number (DOD ID Number), date of birth, rate, rank, pay grade, military status, record status, activity, email address and phone number.”

* * * * *

Purpose(s):

Delete entry and replace with “To assist Navy officials (government and designated contractors) in the initiation, development, and implementation of policies pertaining to enlisted personnel assignment, placement, retention, career enhancement and motivation, and other career related matters to meet manpower allocations and requirements. This system primarily displays a listing of available billets from which a Sailor or designated representative can submit a request for transfer and be assigned in the billet.”

* * * * *

Retrievability:

Delete entry and replace with “Name, SSN and/or DoD ID Number, rate/pay grade, activity, and/or record status within command.”

Safeguards:

Delete entry and replace with “The system is only accessible utilizing the Department of Defense (DoD) Common Access Card (CAC) and Personal Identification Number (PIN). The use and display of the Social Security Number (SSN) will be minimized to only authorize personnel with a need to know and wherever possible encrypted and/or masked to prevent further disclosure. Computer printouts are available only to authorized personnel having a need-to-know. Personnel submit a signed and approved System Authorization Access Request Navy (SAAR-N) form to Commander, Navy Personnel Command (PERS-455), 5720 Integrity Drive, Millington, TN 38055-0600 for access for any roles above basic user.”

* * * * *

Notification procedure:

Delete entry and replace with “Individuals seeking to determine whether this system of records contains information about themselves should address written inquiries to the Commander, Navy Personnel Command (Pers-455), 5720 Integrity Drive, Millington, TN 38055-4550.

The request should contain full name, DoD ID and/or SSN, rate, military status, and signature of the requester. The system manager may require an original signature or a notarized signature as a means of proving the identity of the individual requesting access to the records.”

Record access procedures:

Delete entry and replace with “Individuals seeking access to records about themselves contained in this system of records should address written inquiries to the Commander, Navy Personnel Command (PERS-455), 5720 Integrity Drive, Millington, TN 38055-4550.

The request should contain the full name, DoD ID and/or SSN, rate, military status, and signature of the requester. The system manager may require an original signature or a notarized signature as a means of proving the identity of the individual requesting access to the records.”

* * * * *

[FR Doc. 2013-24200 Filed 10-2-13; 8:45 am]

BILLING CODE 5001-06-P